DEPARTMENT OF TRANSPORTATION

Federal Aviation Administration

RTCA Special Committee 204: 406 MHz Emergency Locator Transmitters

AGENCY: Federal Aviation Administration (FAA), DOT.

ACTION: Notice of RTCA Special Committee 204 meeting.

SUMMARY: The FAA is issuing this notice to advise the public of a meeting of RTCA Special Committee 204: 406 MHz Emergency Locator Transmitters

DATES: The meeting will be held on June 9-10, 2005, from 9 a.m. to 5 p.m.

ADDRESSES: The meeting will be held at RTCA, Inc., 1828 L Street, NW., Suite 805, Washington, DC 20036-5133.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 202 meeting. RTCA is establishing Special Committee (SC) 204 at the request of the Federal Aviation Administration and the U.S. Coast Guard National Search & Rescue Committee. The SC-204 task is to revise DO-204—Minimum Operational Performance Standards for 406 MHz Emergency Locator Transmitters (ELTs) issued in September 1989. This committee will address design performance, installation and operational issues for 406 MHz emergency beacons. The agenda will include:

• Opening Session (Welcome, Introductory and Administrative Remarks, Review Federal Advisory Committee Act and RTCA procedures, Review Agenda, Review Terms of Reference).

• June 9-10:

• Previous 406 MHz ELT Committee History.

• Current Committee Scope, Terms of Reference Overview.

• Presentation, Discussion, Recommendations.

• Organization of Work, Assign Tasks and Workgroups.

• Presentation, Discussion, Recommendations.

• Assignment of Responsibilities.

• Closing Session (Other Business, Date and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 10, 2005.
Natalie Ogletree,
FAA General Engineer, RTCA Advisory Committee.

[FR Doc. 05-10416 Filed 5-24-05; 8:45 am]

BILLING CODE 4910-13-M